ENVIRONMENTAL PROTECTION AGENCY

[EPA-HQ-OPP-2011-0136; FRL-8865-7]

Promoting Community Integrated Pest Management To Prevent Tick-Borne Diseases; Notice of Public Meeting

AGENCY: Environmental Protection Agency (EPA).

ACTION: Notice.

SUMMARY: EPA will host a National Community Integrated Pest Management (IPM) for Preventing Tick-Borne Diseases Conference on March 30 and 31, 2011, under the auspices of EPA's Pesticide Program Dialog Committee (Public Health Work Group). The objectives of the conference are to identify knowledge gaps and barriers to effective community-wide tick control; propose the next steps in addressing knowledge gaps and eliminating barriers; and develop a framework for addressing the highest priority needs. The agenda for this conference will be posted at http://www.epa.gov/pestwise/ and placed in the docket in advance of the meeting.

DATES: The meeting will be held on March 30 and 31, 2011, from 8 a.m. to 5 p.m. Requests to participate in the meeting must be received on or before March 18, 2011. To request accommodation of a disability, please contact the person listed under FOR FURTHER INFORMATON CONTACT, preferably at least 10 days prior to the meeting, to give EPA as much time as possible to process your request.

ADDRESSES: The meeting will be held in Arlington, VA 22202 at at location to be determined. For additional information on the location, please see the following Web page: http://www.epa.gov/pesticides.

FOR FURTHER INFORMATION CONTACT: Raderrio Wilkins, Biopesticides and Pollution Prevention Division (7511P), Office of Pesticide Programs, Environmental Protection Agency, 1200 Pennsylvania Ave., NW., Washington, DC 20460-0001; telephone number: (703) 308-1259; e-mail address: wilkins.raderrio@epa.gov.

SUPPLEMENTARY INFORMATION:

I. General Information

A. Does this action apply to me?

This action is directed to the public in general. The announcement may be of interest to Federal, State, and local municipal officials involved in tick management, prevention and outreach; practitioners involved in managing tick populations in parks, residential areas and military installations; academic and research institutions examining the effectiveness of prevention strategies; school officials, teachers, outdoor educators, nurses and anyone involved in educating children; non-government organizations (NGO); civic and community organizations; Integrated Pest Management implementers; pesticide registrants for insect repellents and area wide control; regional landscape planners concerned with biodiversity and fragmented habitat; and health economists concerned with infectious disease.

Since other entities may also be interested, the Agency has not described all the specific entities that may be affected by this action. If you have any questions regarding the applicability of this action to a particular entity, consult the person listed under FOR FURTHER INFORMATION CONTACT.

B. How can I get copies of this document and other related information?

EPA has established a docket for this action under docket ID number EPA-HQ-OPP-2011-0136. Publicly available docket materials are available either in the electronic docket at http://www.regulations.gov, or, if only available in hard copy, at the Office of Pesticide Programs (OPP) Regulatory Public Docket in Rm. S-4400, One Potomac Yard (South Bldg.), 2777 S. Crystal Dr., Arlington, VA. The hours of operation of this Docket Facility are from 8:30 a.m. to 4 p.m., Monday through Friday, excluding legal holidays. The Docket Facility telephone number is (703) 305-5805.

II. Background

Tick-borne diseases, including Lyme, Rocky Mountain spotted fever, and anaplasmosis, are an increasing problem in the United States, both in terms of frequency of occurrence and range. Increases in the ranges of disease hosts and carriers, possibly due to changes in populations and climatic conditions mean that tick bite protection and disease prevention have become critical needs. Adolescents and children are especially at risk because of the time they spend outdoors.

It is important that the Federal government assist in exploring means of effectively identifying challenges and ways to remedy this growing problem of tick management through Integrated Pest Management (IPM). This conference will identify knowledge gaps and barriers to effective community-wide tick IPM programs; propose the next steps in addressing knowledge gaps and eliminating barriers; and develop a framework for addressing the highest priority needs.

The conference will focus on six topic areas that will contribute to the development of an IPM-based prevention strategy and action plan:

1. Protecting children in school and outdoor environments.

2. Creating institutional structures for community level IPM.

3. Examining the role of landscape planning in tick management.

4. Public outreach strategies to reach targeted populations.

5. Protecting outdoor worker exposure.

6. Measuring the impact of prevention strategy in the United States.

III. How can I request to participate in this meeting?

The conference is open to the public. Visit http://www.eventbrite.com/event/1154843167 to register to attend in person. You may submit a request to provide formal comments (up to three minutes) in this meeting to info@epa.gov. Requests to participate in the meeting should include name, affiliation, address, telephone number, and e-mail address. Do not submit any information in your request that is considered CBI. Requests to participate in the meeting, identified by docket ID number EPA-HQ-OPP-2011-0136, must be received on or before March 17, 2011.

List of Subjects

Environmental protection, Community IPM, Insect Repellents, Integrated Pest Management, Lyme Disease, IPM, Tick, Tick-borne Disease.

Dated: February 24, 2011.
Keith A. Matthews,
Acting Director, Biopesticides and Pollution Prevention Division, Office of Pesticide Programs.

[FR Doc. 2011-5068 Filed 3-8-11; 8:45 am]

BILLING CODE 6560-50-P